DEPARTMENT OF HEALTH AND HUMAN SERVICES

Food and Drug Administration

Quality System Regulation Educational Forum on Design Controls; Public Workshop; Amendment of Notice

AGENCY: Food and Drug Administration, HHS.

ACTION: Notice.

SUMMARY: The Food and Drug Administration (FDA) is announcing an amendment to the notice of public workshop entitled “Quality System Regulation Educational Forum on Design Controls.” This workshop was announced in the Federal Register of October 11, 2007 (72 FR 57951). The amendment is made to reflect a change in the Location portion of the document. There are no other changes.

FOR FURTHER INFORMATION CONTACT: David Arvelo, Food and Drug Administration, 4040 North Central Expressway, suite 900, Dallas, TX 75204, 214-253-4952, FAX: 214-253-4970, e-mail: david.arvelo@fda.hhs.gov.

SUPPLEMENTARY INFORMATION: In the Federal Register of October 11, 2007 (72 FR 57951), FDA announced that a public workshop entitled “Quality System Regulation Educational Forum on Design Controls” would be held on Friday, April 4, 2008. On page 57951, in the second column, the Location portion of the document is amended to read as follows:

Location: The public workshop will be held at the Adam's Mark Hotel Dallas, 400 North Olive St., Dallas, TX 75201, 214-922-8000. Directions to the facility and additional information are available at the FDA Medical Device Industry Coalition Web site at http://www.fmdic.org/.

Dated: December 7, 2007.
Jeffrey Shuren,
Assistant Commissioner for Policy.

[FR Doc. E7-24144 Filed 12-12-07; 8:45 am]

BILLING CODE 4160-01-S